ENVIRONMENTAL PROTECTION AGENCY

[FRL-7572-4]

Meeting of the Local Government Advisory Committee

AGENCY: Environmental Protection Agency (EPA).

ACTION: Notice.

SUMMARY: The Local Government Advisory Committee (LGAC) will meet on October 27-29, 2003 in Portland, OR. Topics to be considered include Water Conservation/Efficiency, the recently released draft Report on the Environment (ROE), an update report on Bartow County, Georgia environmental management systems project, and an overview of the Brownfields 2003 Conference and the impact of Brownfields activities in local communities. Work group and subcommittee discussions on urbanization issues, infrastructure principles, tax credits, lease purchase arrangements and CSO and SSO issues are also expected. The Committee also expects to have general discussions with other local government officials from the area who attend the Committee's sessions.

The Committee will hear comments from the public between 11:45 a.m.-12 p.m., October 28, 2003 . Each individual or organization wishing to address the LGAC meeting will be allowed a maximum of five minutes to present their point of view. Please contact the Designated Federal Officer (DFO) at the number listed below to schedule agenda time. Time will be allotted on a first come, first served basis, and the total period for comments may be extended, if the number of requests for appearances required it.

These are open meetings and all interested persons are invited to attend. LGAC meeting minutes and summary notes will be available after the meetings and can be obtained by written request from the DFO. Members of the public are requested to call the DFO at the number listed below if planning to attend so that arrangements can be made to comfortably accommodate attendees as much as possible. Seating will be on a first come, first served basis.

DATES: The Local Government Advisory Committee Plenary sessions will begin at 8:30 a.m. Monday, October 27, 2003 and is expected to conclude at 1:30 p.m. on October 29, 2003.

ADDRESSES: The meetings will be held at the Oregon Convention Center, 777 N. E. Martin Luther King, Jr. Blvd in Portland, Oregon. Plenary sessions will be held in meeting rooms D131 and D132.

Additional information can be obtained by writing the DFO at 1200 Pennsylvania Avenue, NW. (1306A), Washington, DC 20460.

FOR FURTHER INFORMATION CONTACT: The DFO for the Local Government Advisory Committee (LGAC) is Paul Guthrie (202) 564-3649.

Dated: September 30, 2003.
Paul N. Guthrie,
Designated Federal Officer, Local Government Advisory Committee.

[FR Doc. 03-25808 Filed 10-9-03; 8:45 am]

BILLING CODE 6560-50-P